DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: The Nursing Education Loan Repayment Program Application (OMB No. 0915-0140)—Revision

This is a request for revision of the application form for the Nursing Education Loan Repayment Program (NELRP). The NELRP was originally authorized by 42 U.S.C. 297b(h) (section 836(h) of the Public Health Service Act) as amended by Pub. L. 100-607, November 4, 1988. The NELRP is currently authorized by 42 U.S.C. 297(n) (section 846 of the Public Health Service Act) as amended by Pub. L. 102-408, October 13, 1992.

Under the NELRP, registered nurses are offered the opportunity to enter into a contractual agreement with the Secretary, under which the Public Health Service agrees to repay the nurses' indebtedness for nursing education. In exchange, the nurses agree to serve for a specified period of time in certain types of health facilities identified in the statute.

Nurse educational loan repayment contracts will be approved by the Secretary for eligible nurses who have incurred previous monetary indebtedness by accepting a loan for nursing education costs from a bank, credit union, savings and loan association, Government agency or program, school, or other lender that meets NELRP criteria. Approval is requested for the application form. The application form requires information from two types of respondents:

a. Applicants must provide information on the proposed service site and on all nursing education loans for which reimbursement is requested, and

b. For those applicants accepted into the NELRP, lenders must provide information on loan status for all loans accepted for repayment.

Estimates of Annualized Hour Burden
Form/regulatory requirement | Number of respondents | Responses per respondents | Hours per response | Total burden hours
NELRP Application | 1,000 | 1 | 1 | 1,000
Loan Verification Form | 50 | 4 | .25 | 50
Total | 1,050 |  |  | 1,050

Written comments and recommendations concerning the proposed information collection should be sent within 30 days of this notice to: John Morrall, Human Resources and Housing Branch, Office of Management and Budget, New Executive Office Building, Room 10235, Washington, DC 20503.

Dated: February 1, 2001.
Jane M. Harrison,
Director, Division of Policy Review and Coordination.

[FR Doc. 01-3125 Filed 2-6-01; 8:45 am]

BILLING CODE 4160-15-U